DEPARTMENT OF ENERGY

Federal Energy Regulatory Commission

Combined Notice of Filings #1

Take notice that the Commission received the following electric rate filings:

Docket Numbers: ER10-3254-002.

Applicants: Cooperative Energy Incorporated (An Electric Membership Corporation).

Description: Updated Market Power Analysis of Cooperative Energy Incorporated (An Electric Membership Corporation).

Filed Date: 5/12/15.

Accession Number: 20150512-5209.

Comments Due: 5 p.m. ET 7/13/15.

Docket Numbers: ER13-913-005.

Applicants: Ohio Valley Electric Corporation.

Description: Compliance filing per 35: Order 1000 Regional Compliance Filing for Transmission Process to be effective 6/1/2015.

Filed Date: 5/13/15.

Accession Number: 20150513-5078.

Comments Due: 5 p.m. ET 6/3/15.

Docket Numbers: ER14-2866-001.

Applicants: Louisville Gas and Electric Company.

Description: Compliance filing per 35: Att O Formula Rate Protocols Compliance Filing to be effective 1/1/2015.

Filed Date: 5/12/15.

Accession Number: 20150512-5156.

Comments Due: 5 p.m. ET 6/2/15.

Docket Numbers: ER15-1130-001.

Applicants: Midcontinent Independent System Operator, Inc., Ameren Illinois Company.

Description: Tariff Amendment per 35.17(b): 2015-05-12_SA 2752 Deficiency Response Ameren-Bishop Hill FSA to be effective 1/28/2015.

Filed Date: 5/12/15.

Accession Number: 20150512-5170.

Comments Due: 5 p.m. ET 6/2/15.

Docket Numbers: ER15-1700-000.

Applicants: Cooperative Energy Incorporated (An Electric Membership Corporation).

Description: Compliance filing per 35: Cooperative Energy Inc Revised Electric Tariff Filing to be effective 5/13/2015.

Filed Date: 5/12/15.

Accession Number: 20150512-5204.

Comments Due: 5 p.m. ET 6/2/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2015.
Nathaniel J. Davis, Sr.,
Deputy Secretary.

[FR Doc. 2015-12178 Filed 5-19-15; 8:45 am]

BILLING CODE 6717-01-P